DEPARTMENT OF LABOR

Employment and Training Administration

[TA-W-61,276]

ABN Amro, Chicago, IL; Notice of Termination of Investigation

Pursuant to Section 221 of the Trade Act of 1974, as amended, an investigation was initiated on April 10, 2007 in response to a worker petition filed by a State agency on behalf of workers at ABN Amro, Chicago, Illinois.

The petitioner has requested that the petition be withdrawn. Consequently, the investigation has been terminated.

Signed at Washington, DC, this 13th day of April, 2007.
Elliott S. Kushner,
Certifying Officer, Division of Trade Adjustment Assistance.

[FR Doc. E7-7613 Filed 4-20-07; 8:45 am]

BILLING CODE 4510-FN-P